DEPARTMENT OF THE INTERIOR

Bureau of Land Management

[L51010000.FX0000.LVRWA09A2400.LLAZP02000;AZA34187]

Notice of Availability of the Record of Decision for the Sonoran Solar Energy Project, Arizona

AGENCY: Bureau of Land Management, Interior.

ACTION: Notice of availability.

SUMMARY: The Bureau of Land Management (BLM) announces the availability of the Record of Decision (ROD) for the Sonoran Solar Energy Project (SSEP). The Secretary of the Interior approved the ROD on December 19, 2011, which constitutes the Interior Department's final decision.

ADDRESSES: Copies of the ROD for the proposed SSEP have been sent to Federal, State, and local government agencies and to other stakeholders. Copies are available for public inspection at the BLM's Phoenix District Office, Lower Sonoran Field Office, 21605 North Seventh Avenue, Phoenix, Arizona 85027-2929 and the BLM Arizona State Office, One North Central Avenue, Phoenix, Arizona 85004-4427. Interested parties may also review the final Environmental Impact Statement (EIS) at the following public libraries in Maricopa County, Arizona:

• Buckeye Public Library, 310 North Sixth Street, Buckeye, Arizona 85236.

• Gila Bend Public Library, 202 North Euclid Avenue, Gila Bend, Arizona 85337.

• Goodyear Public Library, 250 North Litchfield Road, Goodyear, Arizona 85338.

Interested parties may also view the final EIS at the following Web site: http://www.blm.gov/az/st/en/prog/energy/solar/sonoran_solar.html.

FOR FURTHER INFORMATION CONTACT: Joe Incardine, BLM National Project Manager, Phoenix District Office/Lower Sonoran Field Office, 21605 North Seventh Avenue, Phoenix, Arizona 85027-2929; phone: (801) 524-3833; or email: jincardi@blm.gov.

SUPPLEMENTARY INFORMATION: Boulevard Associates, LLC, a subsidiary of NextEra Energy Resources, filed a right-of-way (ROW) application for the SSEP on BLM-managed lands in the Little Rainbow Valley, east of State Route 85, and south of the Buckeye Hills and the town of Buckeye in Maricopa County, Arizona. As required under the National Environmental Policy Act of 1969, as amended, the Final EIS for the SSEP analyzed a No Action alternative which would preclude development of the SSEP in any configuration and maintain existing land uses in the project area. The Final EIS also analyzed three action alternatives, one sub-alternative, and two options including: (1) The Proposed Action (375-megawatt (MW) wet-cooled concentrated solar thermal parabolic trough facility on 3,620 acres of land); (2) Alternative A: Reduced Water Use (using a dry-cooling technology); (3) Sub-alternative A1: Photovoltaic (PV) (a 300-MW PV facility occupying 2,013 acres of land); (4) Alternative B: Reduced Footprint (a 250-MW wet-cooled facility occupying 2,320 acres of land); (5) Brine Concentrator Option (could be added to the Proposed Action or Alternative B to reduce wastewater); and (6) Generation Intertie (Gen-tie) Line Option (could be used for any alternative to address alternate methods and locations for crossing existing high-voltage transmission lines near the project area).

The Preferred Alternative from the Final EIS, including the proposed gen-tie line, is the Selected Alternative in the ROD. The Selected Alternative will allow the issuance of a ROW grant for a PV facility capable of generating up to 300 MW of solar power on 2,013 acres of land. The project will consist of multiple arrays of PV panels electrically connected to associated power inverter units. The current from the power inverters will be gathered by an internal electrical collection system and transformed to transmission voltage prior to leaving the project area. The Selected Alternative facilities include the following major components or systems: PV modules/arrays; solar trackers and/or fixed support structures; an electrical collection system; a step-up transformation/on-site switchyard; a 500-kilovolt generation tie-line/utility interconnection; administration buildings and local warehouses; and drainage collection and discharge facilities. A single evaporation pond of approximately 1 acre is required. The PV does not use heat transfer fluid; therefore, no land-treatment unit is required. The Selected Alternative in the ROD will use approximately 33 acre-feet per year of water for project operations, mostly for washing PV mirrors. That amounts to 1-2 percent of the water that the original proposed action would have used.

As described in the Final EIS, the BLM Selected Alternative, with its preferred gen-tie line, was developed in response to agency and public comments on water consumption. It was developed after the Draft EIS, due to advancements in technology and a change in market conditions that allowed for a reconsideration of PV technology as a viable alternative. The Selected Alternative also avoids other resource issues raised by the public and agency cooperators, including wildlife habitat and travel corridors, pending Federal Emergency Management Agency floodplains, air quality point sources and vapor plumes, and nearby residences.

The Notice of Availability of the Final EIS for the SSEP was published in the Federal Register on October 21, 2011 (76 FR 65532). Publication of the Notice of Availability initiated a 30-day comment period on the Final EIS. At the close of the 30-day period on November 21, 2011, four comments had been received. These comments and their responses are attached to the ROD.

Because this decision is approved by the Secretary of the Interior, it is not subject to administrative appeal (43 CFR 4.410(a)(3)).

Authority: 40 CFR 1506.6.

Robert V. Abbey,
Director, Bureau of Land Management.

[FR Doc. 2011-33094 Filed 12-23-11; 8:45 am]

BILLING CODE 4310-32-P